DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Jefferson (FEMA Docket No.: B-1225) | Unincorporated areas of Jefferson County (11-04-4802P) | August 10, 2011; August 17, 2011; The Alabama Messenger | The Honorable David Carrington, President, Jefferson County Commission, 716 Richard Arrington Jr. Boulevard North, Suite 230, Birmingham, AL 35203 | September 6, 2011 | 010217
Madison (FEMA Docket No.: B-1211) | City of Huntsville (10-04-7544P) | June 30, 2011; July 7, 2011; The Huntsville Times | The Honorable Tommy Battle, Mayor, City of Huntsville, 308 Fountain Circle, 8th Floor, Huntsville, AL 35801 | November 4, 2011 | 010153
Madison (FEMA Docket No.: B-1211) | City of Madison (10-04-7544P) | June 30, 2011; July 7, 2011; The Huntsville Times | The Honorable Paul Finley, Mayor, City of Madison, 100 Hughes Road, Madison, AL 35758 | November 4, 2011 | 010308
Arizona:
Pima (FEMA Docket No.: B-1219) | City of Tucson (10-09-2016P) | July 22, 2011; July 29, 2011; The Arizona Daily Star | The Honorable Robert E. Walkup, Mayor, City of Tucson, 255 West Alameda Street, Tucson, AZ 85701 | November 28, 2011 | 040076
Pinal (FEMA Docket No.: B-1219) | Unincorporated areas of Pinal County (11-09-0945P) | July 15, 2011; July 22, 2011; The Casa Grande Dispatch | The Honorable Pete Rios, Chairman, Pinal County Board of Supervisors, 31 North Pinal Street, Building A, Florence, AZ 85132 | November 21, 2011 | 040077
Arkansas:
Benton (FEMA Docket No.: B-1215) | City of Bentonville (11-06-3300P) | July 1, 2011; July 8, 2011; The Benton County Daily Record | The Honorable Bob McCaslin, Mayor, City of Bentonville, 117 West Central Avenue, Bentonville, AR 72712 | November 7, 2011 | 050012
Benton (FEMA Docket No.: B-1219) | City of Bentonville (11-06-0823P) | July 7, 2011; July 14, 2011; The Benton County Daily Record | The Honorable Bob McCaslin, Mayor, City of Bentonville, 117 West Central Avenue, Bentonville, AR 72712 | November 11, 2011 | 050012
California:
Fresno (FEMA Docket No.: B-1211) | Unincorporated areas of Fresno County (10-09-3948P) | June 8, 2011; June 15, 2011; The Fresno Bee | The Honorable Phil Larson, Chairman, Fresno County Board of Supervisors, 2281 Tulare Street, Room 300, Fresno, CA 93721 | October 13, 2011 | 065029
Sacramento (FEMA Docket No.: B-1219) | City of Sacramento (11-09-2263P) | July 16, 2011; July 23, 2011; The Sacramento Bee | The Honorable Kevin Johnson, Mayor, City of Sacramento, 915 I Street, 5th Floor, Sacramento, CA 95814 | November 21, 2011 | 060266
Sacramento (FEMA Docket No.: B-1219) | Unincorporated areas of Sacramento County (11-09-2263P) | July 16, 2011; July 23, 2011; The Sacramento Bee | The Honorable Roberta MacGlashan, Chair, Sacramento County Board of Supervisors, 700 H Street, Suite 2450, Sacramento, CA 95814 | November 21, 2011 | 060262
Ventura (FEMA Docket No.: B-1219) | City of Camarillo (11-09-0883P) | July 27, 2011; August 3, 2011; The Ventura County Star | The Honorable Mike Morgan, Mayor, City of Camarillo, 601 Carmen Drive, Camarillo, CA 93010 | July 19, 2011 | 065020
Ventura (FEMA Docket No.: B-1219) | Unincorporated areas of Ventura County (11-09-0883P) | July 27, 2011; August 3, 2011; The Ventura County Star | The Honorable Linda Parks, Chair, Ventura County Board of Supervisors, 800 South Victoria Avenue, Ventura, CA 93009 | July 19, 2011 | 060413
Colorado:
Teller (FEMA Docket No.: B-1219) | City of Woodland Park (10-08-0932P) | July 13, 2011; July 20, 2011; The Pikes Peak Courier View | The Honorable Steve Randolph, Mayor, City of Woodland Park, 220 West South Avenue, Woodland Park, CO 80863 | November 17, 2011 | 080175
Teller (FEMA Docket No.: B-1219) | Unincorporated areas of Teller County (10-08-0932P) | July 13, 2011; July 20, 2011; The Pikes Peak Courier View | The Honorable Jim Ignatius, Chairman, Teller County Board of Commissioners, 112 North “A” Street, Cripple Creek, CO 80813 | November 17, 2011 | 080173
Florida:
Charlotte (FEMA Docket No.: B-1225) | Unincorporated areas of Charlotte County (11-04-5839P) | August 5, 2011; August 12, 2011; The Charlotte Sun | The Honorable Bob Starr, Chairman, Charlotte County Board of Commissioners, 18500 Murdock Circle, Port Charlotte, FL 33948 | July 28, 2011 | 120061
Marion (FEMA Docket No.: B-1219) | City of Ocala (11-04-2943P) | July 21, 2011; July 28, 2011; The Star-Banner | The Honorable Randy Ewers, Mayor, City of Ocala, 151 Southeast Osceola Avenue, Ocala, FL 34471 | November 25, 2011 | 120330
St. Lucie (FEMA Docket No.: B-1225) | Unincorporated areas of St. Lucie County (11-04-4362P) | August 5, 2011; August 12, 2011; The St. Lucie News-Tribune | The Honorable Chris Craft, Chairman, St. Lucie County Board of Commissioners, 2300 Virginia Avenue, Fort Pierce, FL 34982 | July 28, 2011 | 120285
Sumter (FEMA Docket No.: B-1225) | Unincorporated areas of Sumter County (11-04-5885P) | August 4, 2011; August 11, 2011; The Sumter County Times | The Honorable Don Burgess, Chairman, Sumter County Board of Commissioners, 7375 Powell Road, Wildwood, FL 34785 | July 28, 2011 | 120296
Hawaii: Honolulu (FEMA Docket No.: B-1219) | City and County of Honolulu (10-09-3709P) | July 15, 2011; July 22, 2011; The Honolulu Star-Advertiser | The Honorable Peter B. Carlisle, Mayor, City and County of Honolulu, 530 South King Street, Room 300, Honolulu, HI 96813 | November 21, 2011 | 150001
New Mexico: Dona Ana (FEMA Docket No.: B-1215) | City of Las Cruces (11-06-1405P) | June 23, 2011; June 30, 2011; The Las Cruces Sun-News | The Honorable Kenneth Daniel Gallegos Miyagishima, Mayor, City of Las Cruces, 700 North Main Street, Las Cruces, NM 88004 | June 16, 2011 | 355332
New York:
Bronx (FEMA Docket No.: B-1215) | City of New York (10-02-2163P) | December 24, 2010; December 31, 2010; The Chief | The Honorable Michael R. Bloomberg, Mayor, City of New York, City Hall, 260 Broadway, New York, NY 10007 | June 16, 2011 | 360497
Monroe (FEMA Docket No.: B-1215) | Town of Pittsford (11-02-0382P) | December 2, 2010; December 9, 2010; The Brighton-Pittsford Post | The Honorable William A. Carpenter, Supervisor, Town of Pittsford, 11 South Main Street, Pittsford, NY 14534 | May 24, 2011 | 360429
Niagara (FEMA Docket No.: B-1215) | Town of Wheatfield (10-02-1141P) | October 29, 2010; November 5, 2010; The Niagara Gazette | The Honorable Robert B. Cliffe, Supervisor, Town of Wheatfield, 2800 Church Road, Wheatfield, NY 14120 | September 20, 2010 | 360513
Suffolk (FEMA Docket No.: B-1219) | Town of Brookhaven (11-02-0892X) | January 25, 2011; February 1, 2011; Newsday | The Honorable Mark Lesko, Supervisor, Town of Brookhaven, 1 Independence Hill, Farmingville, NY 11738 | July 18, 2011 | 365334
North Carolina:
Mecklenburg (FEMA Docket No.: B-1219) | City of Charlotte (11-04-1802P) | July 6, 2011; July 13, 2011; The Charlotte Observer | The Honorable Anthony R. Foxx, Mayor, City of Charlotte, 600 East 4th Street, Charlotte, NC 28202 | November 10, 2011 | 370159
Wake (FEMA Docket No.: B-1211) | Town of Holly Springs (09-04-6226P) | May 27, 2011; June 3, 2011; The News & Observer | The Honorable Richard G. “Dick” Sears, Mayor, Town of Holly Springs, 128 South Main Street, Holly Springs, NC 27540 | October 3, 2011 | 370403
Wake (FEMA Docket No.: B-1211) | Unincorporated areas of Wake County (09-04-6226P) | May 27, 2011; June 3, 2011; The News & Observer | Mr. David Cooke, Wake County Manager, 337 South Salisbury Street, Suite 1100, Raleigh, NC 27602 | October 3, 2011 | 370368
Oklahoma: Tulsa (FEMA Docket No.: B-1219) | City of Broken Arrow (10-06-0428P) | July 28, 2011; August 4, 2011; The Tulsa Daily Commerce & Legal News | The Honorable Mike Lester, Mayor, City of Broken Arrow, 220 South 1st Street, Broken Arrow, OK 74012 | July 21, 2011 | 400236
Pennsylvania:
Chester (FEMA Docket No.: B-1215) | Township of Caln (10-03-1911P) | December 7, 2010; December 14, 2010; The Daily Local News | Mr. Gregory E. Prowant, AICP, Caln Township Manager, 253 Municipal Drive, Thorndale, PA 19372 | April 13, 2011 | 422247
Chester (FEMA Docket No.: B-1215) | Township of West Goshen (10-03-1283P) | March 4, 2011; March 11, 2011; The Daily Local News | The Honorable Edward G. Meakim, Jr., Chairman, Township of West Goshen Board of Supervisors, 1025 Paoli Pike, West Chester, PA 19380 | February 25, 2011 | 420293
Dauphin (FEMA Docket No.: B-1215) | Township of West Hanover (10-03-2139P) | April 7, 2011; April 14, 2011; The Patriot-News | The Honorable Adam Klein, Chairman, Township of West Hanover Board of Supervisors, 7171 Allentown Boulevard, Harrisburg, PA 17112 | August 12, 2011 | 421600
South Carolina:
Charleston (FEMA Docket No.: B-1225) | Town of Mount Pleasant (11-04-5533P) | August 4, 2011; August 11, 2011; The Post and Courier | The Honorable Billy Swails, Mayor, Town of Mount Pleasant, 100 Ann Edwards Lane, Mount Pleasant, SC 29464 | July 28, 2011 | 455417
Charleston (FEMA Docket No.: B-1225) | Unincorporated areas of Charleston County (11-04-5329P) | August 4, 2011; August 11, 2011; The Post and Courier | The Honorable Teddie E. Pryor, Sr., Chairman, Charleston County Council, 4045 Bridge View Drive, North Charleston, SC 29405 | July 28, 2011 | 455413
South Dakota: Fall River (FEMA Docket No.: B-1219) | City of Hot Springs (11-08-0656P) | July 5, 2011; July 12, 2011; The Hot Springs Star | The Honorable Don DeVries, Mayor, City of Hot Springs, 303 North River Street, Hot Springs, SD 57747 | November 9, 2011 | 460027
Tennessee:
Greene (FEMA Docket No.: B-1225) | City of Tusculum (11-04-3995P) | June 30, 2011; July 7, 2011; The Greeneville Sun | The Honorable John Foster, Mayor, City of Tusculum, 145 Alexander Street, Greeneville, TN 37745 | June 23, 2011 | 470329
Greene (FEMA Docket No.: B-1225) | Town of Greeneville (11-04-3995P) | June 30, 2011; July 7, 2011; The Greeneville Sun | The Honorable W. T. Daniels, Mayor, Town of Greeneville, 200 North College Street, Greeneville, TN 37745 | June 23, 2011 | 470069
Maury (FEMA Docket No.: B-1219) | City of Spring Hill (11-04-2516P) | July 28, 2011; August 4, 2011; The Daily Herald | The Honorable Michael Dinwiddie, Mayor, City of Spring Hill, 199 Town Center Parkway, Spring Hill, TN 37174 | August 22, 2011 | 470278
Texas:
Collin (FEMA Docket No.: B-1215) | City of Plano (10-06-0997P) | June 23, 2011; June 30, 2011; The Plano Star Courier | The Honorable Phil Dyer, Mayor, City of Plano, 1520 Avenue K, Plano, TX 75074 | August 31, 2010 | 480140
Comal (FEMA Docket No.: B-1215) | City of New Braunfels (11-06-0637P) | May 31, 2011; June 7, 2011; The New Braunfels Herald-Zeitung | The Honorable Bruce Boyer, Mayor, City of New Braunfels, 424 South Castell Avenue, New Braunfels, TX 78130 | October 5, 2011 | 485493
Dallas (FEMA Docket No.: B-1211) | City of Coppell (11-06-0227P) | June 10, 2011; June 17, 2011; The Citizens' Advocate | The Honorable Doug Stover, Mayor, City of Coppell, 255 Parkway Boulevard, Coppell, TX 75019 | October 17, 2011 | 480170
Dallas (FEMA Docket No.: B-1211) | City of Dallas (11-06-3043P) | June 9, 2011; June 16, 2011; The Dallas Morning News | The Honorable Dwaine R. Caraway, Mayor, City of Dallas, 1500 Marilla Street, Room 5EN, Dallas, TX 75201 | October 14, 2011 | 480171
Dallas and Tarrant (FEMA Docket No.: B-1215) | City of Grand Prairie (10-06-1790P) | May 27, 2011; June 3, 2011; The Dallas Morning News | The Honorable Charles England, Mayor, City of Grand Prairie, 206 West Church Street, Grand Prairie, TX 75053 | October 3, 2011 | 485472
Ellis (FEMA Docket No.: B-1219) | City of Midlothian (10-06-2706P) | May 4, 2011; May 11, 2011; The Midlothian Mirror | The Honorable Boyce Whatley, Mayor, City of Midlothian, 104 West Avenue East, Midlothian, TX 76065 | May 31, 2011 | 480801
Ellis (FEMA Docket No.: B-1219) | Unincorporated areas of Ellis County (10-06-2706P) | May 4, 2011; May 11, 2011; The Waxahachie Daily Light | The Honorable Carol Bush, Ellis County Judge, 101 West Main Street, Waxahachie, TX 75165 | May 31, 2011 | 480798
Jefferson (FEMA Docket No.: B-1215) | City of Beaumont (10-06-1909P) | June 30, 2011; July 7, 2011; The Beaumont Enterprise | The Honorable Becky Ames, Mayor, City of Beaumont, 801 Main Street, Beaumont, TX 77701 | November 4, 2011 | 485457
Nueces (FEMA Docket No.: B-1215) | City of Corpus Christi (11-06-0948P) | June 14, 2011; June 21, 2011; The Corpus Christi Caller-Times | The Honorable Joe Adame, Mayor, City of Corpus Christi, 1201 Leopard Street, Corpus Christi, TX 78401 | June 7, 2011 | 485464
Rockwall (FEMA Docket No.: B-1219) | City of Rockwall (11-06-2878P) | July 15, 2011; July 22, 2011; The Rockwall County News | The Honorable David Sweet, Mayor, City of Rockwall, 385 South Goliad Street, Rockwall, TX 75087 | November 21, 2011 | 480547
Tarrant (FEMA Docket No.: B-1219) | City of Arlington (11-06-1155P) | July 21, 2011; July 28, 2011; The Fort Worth Star-Telegram | The Honorable Dr. Robert Cluck, Mayor, City of Arlington, 101 West Abram Street, Arlington, TX 76004 | November 25, 2011 | 485454
Tarrant (FEMA Docket No.: B-1219) | City of Fort Worth (10-06-2761P) | May 6, 2011; May 13, 2011; The Fort Worth Star-Telegram | The Honorable Betsy Price, Mayor, City of Fort Worth, 1000 Throckmorton Street, Fort Worth, TX 76102 | September 12, 2011 | 480596
Tarrant (FEMA Docket No.: B-1219) | City of Saginaw (10-06-2761P) | May 6, 2011; May 13, 2011; The Fort Worth Star-Telegram | The Honorable Gary Brinkley, Mayor, City of Saginaw, 333 West McLeroy Boulevard, Saginaw, TX 76179 | September 12, 2011 | 480610
Travis (FEMA Docket No.: B-1219) | City of Austin (11-06-3301P) | June 28, 2011; July 5, 2011; The Austin American-Statesman | The Honorable Lee Leffingwell, Mayor, City of Austin, 301 West 2nd Street, 2nd Floor, Austin, TX 78701 | November 2, 2011 | 480624
Wise (FEMA Docket No.: B-1215) | City of Bridgeport (11-06-3042P) | June 9, 2011; June 16, 2011; The Bridgeport Index | The Honorable Keith McComis, Mayor, City of Bridgeport, 900 Thompson Street, Bridgeport, TX 76426 | October 14, 2011 | 480677
Wise (FEMA Docket No.: B-1215) | Unincorporated areas of Wise County (11-06-3042P) | June 9, 2011; June 16, 2011; The Wise County Messenger | The Honorable Bill McElhaney, Wise County Judge, 101 North Trinity Street, Suite 101, Decatur, TX 76234 | October 14, 2011 | 481051
Virginia:
Fairfax (FEMA Docket No.: B-1215) | Unincorporated areas of Fairfax County (11-03-0675P) | May 6, 2011; May 13, 2011; The Washington Times | The Honorable Sharon Bulova, Chairman, Fairfax County Board of Supervisors, 12000 Government Center Parkway, Suite 530, Fairfax, VA 22035 | May 31, 2011 | 515525
Richmond (FEMA Docket No.: B-1215) | City of Richmond (10-03-0790P) | February 11, 2011; February 18, 2011; The Richmond Times-Dispatch | The Honorable Dwight C. Jones, Mayor, City of Richmond, 900 East Broad Street, Suite 201, Richmond, VA 23219 | June 20, 2011 | 510129

(Catalog of Federal Domestic Assistance No. 97.022, “Flood Insurance.”)

Dated: December 27, 2011.
Sandra K. Knight,
Deputy Associate Administrator for Mitigation, Department of Homeland Security, Federal Emergency Management Agency.

[FR Doc. 2012-485 Filed 1-11-12; 8:45 am]

BILLING CODE 9110-12-P